DEPARTMENT OF TRANSPORTATION

Federal Aviation Administration

Environmental Impact Statement: New Orleans International Airport, New Orleans, LA

AGENCY: Federal Aviation Administration (FAA), DOT.

ACTION: Notice of withdrawal of EIS.

SUMMARY: The FAA is issuing this notice to advise the public that it is withdrawing its intent to prepare an Environmental Impact Statement (EIS) to consider a proposed taxiway to runway conversion and a new air carrier runway at Louis Armstrong New Orleans International Airport, New Orleans, Louisiana.

FOR FURTHER INFORMATION CONTACT: Joyce M. Porter, Environmental Specialist, Federal Aviation Administration, Southwest Regional Office, Fort Worth, Texas 76193-0640. Telephone (817) 222-5640.

SUPPLEMENTARY INFORMATION: The FAA, after coordinating with the New Orleans Aviation Board, is withdrawing its notice of intent to prepare an EIS for a proposed taxiway to runway conversion and a new air carrier runway and its associated taxiways. The publication of this notice formally terminates the FAA's EIS study for Louis Armstrong New Orleans International Airport, New Orleans, Louisiana.

Issued on: August 11, 2005.
Kelvin A. Solco,
Manager, Airports Division.

[FR Doc. 05-18272 Filed 9-13-05; 8:45 am]

BILLING CODE 4910-13-M